DEPARTMENT OF HOMELAND SECURITY

Office of the Secretary

[Docket No. DHS-2008-0023]

Privacy Act of 1974; Department of Homeland Security Correspondence Records System of Records

AGENCY: Privacy Office; DHS.

ACTION: Notice of Privacy Act system of records.

SUMMARY: In accordance with the Privacy Act of 1974, the Department of Homeland Security is giving notice that it proposes to consolidate two legacy record systems: Treasury/CS.056 Congressional and Public Correspondence File, October 18, 2001, FEMA/ADM-1 Office Files, September 7, 1990, into a new record system, titled Department of Homeland Security Correspondence Records. The Department of Homeland Security also proposes to partially consolidate Treasury/USSS.008 Public Affairs Record System, August 28, 2001, into this new record system. This system will allow the Department of Homeland Security to collect and maintain incoming information and responses to inquiries, comments, or complaints made to the Department. Categories of individuals, categories of records, and the routine uses of these system of records notices have been consolidated and updated to better reflect the Department's correspondence record systems. This consolidated system will be included in the Department of Homeland Security's inventory of record systems.

DATES: Submit comments on or before December 10, 2008. This new system will be effective December 10, 2008.

ADDRESSES: You may submit comments, identified by docket number DHS-2008-0023 by one of the following methods:

• Federal e-Rulemaking Portal: http://www.regulations.gov. Follow the instructions for submitting comments.

• Fax: 1-866-466-5370.

• Mail: Hugo Teufel III, Chief Privacy Officer, Privacy Office, Department of Homeland Security, Washington, DC 20528.

• Instructions: All submissions received must include the agency name and docket number for this rulemaking. All comments received will be posted without change and may be read at http://www.regulations.gov, including any personal information provided.

• Docket: For access to the docket to read background documents or comments received, go to http://www.regulations.gov.

FOR FURTHER INFORMATION CONTACT: For general questions and privacy issues please contact: Hugo Teufel III (703-235-0780), Chief Privacy Officer, Privacy Office, Department of Homeland Security, Washington, DC 20528.

SUPPLEMENTARY INFORMATION:

I. Background

Pursuant to the savings clause in the Homeland Security Act of 2002, Public Law 107-296, section 1512, 116 Stat. 2310 (November 25, 2002), the Department of Homeland Security (DHS) and its components and offices have relied on preexisting Privacy Act systems of records notices for the collection and maintenance of records that concern correspondence records.

As part of its efforts to streamline and consolidate its Privacy Act record systems, DHS is establishing a new agency-wide system of records under the Privacy Act (5 U.S.C. 552a) for DHS correspondence records. This will ensure that all components of DHS follow the same privacy rules for collecting, maintaining, and distributing correspondence records.

In accordance with the Privacy Act of 1974, DHS is giving notice that it proposes to consolidate two legacy record systems: Treasury/CS.056 Congressional and Public Correspondence File (66 FR 52984 October 18, 2001), FEMA/ADM-1 Office Files (55 FR 37182 September 7, 1990) into a new record system, titled Department of Homeland Security Correspondence Records. DHS also proposes to partially consolidate Treasury/USSS.008 Public Affairs Record System (66 FR 45362 August 28, 2001) into this new record system. This system will allow DHS to collect and maintain incoming information and responses to inquiries, comments, or complaints made to the Department. Categories of individuals, categories of records, and the routine uses of these system of records notices have been consolidated and updated to better reflect the Department's correspondence record systems. This consolidated system will be included in DHS's inventory of record systems.

II. Privacy Act

The Privacy Act embodies fair information principles in a statutory framework governing the means by which the United States Government collects, maintains, uses, and disseminates individuals' records. The Privacy Act applies to information that is maintained in a “system of records.” A “system of records” is a group of any records under the control of an agency for which information is retrieved by the name of an individual or by some identifying number, symbol, or other identifying particular assigned to the individual. In the Privacy Act, an individual is defined to encompass United States citizens and legal permanent residents. As a matter of policy, DHS extends administrative Privacy Act protections to all individuals where systems of records maintain information on U.S. citizens, lawful permanent residents, and visitors. Individuals may request access to their own records that are maintained in a system of records in the possession or under the control of DHS by complying with DHS Privacy Act regulations, 6 CFR part 5.

The Privacy Act requires each agency to publish in the Federal Register a description denoting the type and character of each system of records that the agency maintains, and the routine uses that are contained in each system in order to make agency record keeping practices transparent, to notify individuals regarding the uses of their records, and to assist individuals in locating such files within the agency. Below is the description of the DHS Correspondence Records System of Records.

In accordance with 5 U.S.C. 552a(r), DHS has provided a report of this new system of records to the Office of Management and Budget (OMB) and to Congress.

System of Records

DHS/ALL-016

System Name:

Department of Homeland Security Correspondence Records

Security Classification:

Unclassified.

System Location:

Records are maintained at several Headquarters locations and in component offices of DHS, in both Washington, DC and field locations.

Categories of Individuals Covered by the System:

Individuals who submit inquiries, complaints, comments, or other correspondence to DHS, and the responding party on behalf of DHS.

Categories of Records in the System:

Categories of records in this system include:

• Individual's name;

• Individual's address;

• Individual's e-mail address;

• Web form information (e.g., IP addresses);

• Who the complaint, compliment, comment or issue is about;

• Incoming correspondence;

• DHS's reply;

• Responder's name on behalf of DHS;

• Additional unsolicited personal information provided by the individual; and

• Other related materials.

Authority for Maintenance of the System:

5 U.S.C. 301; The Federal Records Act, 44 U.S.C. 3101.

Purpose(s):

The purpose of this system is to manage incoming information and responses to inquiries, comments, or complaints made to DHS.

Routine Uses of Records Maintained in the System, Including Categories of Users and the Purposes of Such Uses:

In addition to those disclosures generally permitted under 5 U.S.C. 552a(b) of the Privacy Act, all or a portion of the records of information contained in this system may be disclosed outside DHS as a routine use pursuant to 5 U.S.C. 552a(b)(3) as follows:

A. To the Department of Justice (including United States Attorney Offices) or other Federal agency conducting litigation or in proceedings before any court, adjudicative or administrative body when it is necessary to the litigation and one of the following is a party to the litigation or has an interest in such litigation:

1. DHS or any component thereof;

2. Any employee of DHS in his/her official capacity;

3. Any employee of DHS in his/her individual capacity where the Department of Justice or DHS has agreed to represent the employee; or

4. The United States or any agency thereof, is a party to the litigation or has an interest in such litigation, and DHS determines that the records are both relevant and necessary to the litigation and the use of such records is compatible with the purpose for which DHS collected the records.

B. To a congressional office from the record of an individual in response to an inquiry from that congressional office made at the request of the individual to whom the record pertains.

C. To the National Archives and Records Administration or other Federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. DHS suspects or has confirmed that the security or confidentiality of information in the system of records has been compromised;

2. The Department has determined that as a result of the suspected or confirmed compromise there is a risk of harm to economic or property interests, identity theft or fraud, or harm to the security or integrity of this system or other systems or programs (whether maintained by DHS or another agency or entity) or harm to the individual who relies upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate Federal, State, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

H. To another Federal agency to refer correspondence or respond to correspondence given the nature of the complaint, compliment, comment or issue.

I. To unions recognized as exclusive bargaining representatives under the Civil Service Reform Act of 1978, 5 U.S.C. 7111 and 7114, the Merit Systems Protection Board, arbitrators, the Federal Labor Relations Authority, and other parties responsible for the administration of the Federal labor-management program for the purpose of processing any corrective action, or grievances, or conducting administrative hearings or appeals, or if needed in the performance of other authorized duties.

J. To the news media and the public, with the approval of the Chief Privacy Officer in consultation with counsel, when there exists a legitimate public interest in the disclosure of the information or when disclosure is necessary to preserve confidence in the integrity of DHS or is necessary to demonstrate the accountability of DHS's officers, employees, or individuals covered by the system, except to the extent it is determined that release of the specific information in the context of a particular case would constitute an unwarranted invasion of personal privacy.

Disclosure to Consumer Reporting Agencies:

None.

Policies and Practices for Storing, Retrieving, Accessing, Retaining, and Disposing of Records in the System:

Storage:

Records in this system are stored electronically or on paper in secure facilities in a locked drawer behind a locked door. The records are stored on magnetic disc, tape, digital media, and CD-ROM.

Retrievability:

Records may be retrieved by individual name and date of correspondence.

Safeguards:

Records in this system are safeguarded in accordance with applicable rules and policies, including all applicable DHS automated systems security and access policies. Strict controls have been imposed to minimize the risk of compromising the information that is being stored. Access to the computer system containing the records in this system is limited to those individuals who have a need to know the information for the performance of their official duties and who have appropriate clearances or permissions.

Retention and Disposal:

Executive level records are permanent, and files are cut off annually and transferred to the National Archives and Records Administration 10 years after cut off date, in accordance with National Archives and Records Administration General Schedule N1-563-07-13-4 (Pending NARA Approval). Non-executive level records are destroyed after 10 years, in accordance with a pending National Archives and Records Administration General Records Schedule.

System Manager and Address:

For Headquarters of DHS, the System Manager is the Director of Departmental Disclosure, Department of Homeland Security, Washington, DC 20528. For components of DHS, the System Manager can be found at http://www.dhs.gov/foia under “contacts.”

Notification procedure:

Individuals seeking notification of and access to any record contained in this system of records, or seeking to contest its content, may submit a request in writing to the Headquarters' or the component's FOIA Officer, whose contact information can be found at http://www.dhs.gov/foia under “contacts.” If an individual believes more than one component maintains Privacy Act records concerning him or her the individual may submit the request to the Chief Privacy Officer, Department of Homeland Security, 245 Murray Drive, SW., Building 410, STOP-0550, Washington, DC 20528.

When seeking records about yourself from this system of records or any other Departmental system of records your request must conform with the Privacy Act regulations set forth in 6 CFR part 5. You must first verify your identity, meaning that you must provide your full name, current address and date and place of birth. You must sign your request, and your signature must either be notarized or submitted under 28 U.S.C. 1746, a law that permits statements to be made under penalty of perjury as a substitute for notarization. While no specific form is required, you may obtain forms for this purpose from the Director, Disclosure and FOIA, http://www.dhs.gov or 1-866-431-0486. In addition you should provide the following:

• An explanation of why you believe the Department would have information on you,

• Identify which component(s) of the Department you believe may have the information about you,

• Specify when you believe the records would have been created,

• Provide any other information that will help the FOIA staff determine which DHS component agency may have responsive records,

• If your request is seeking records pertaining to another living individual, you must include a statement from that individual certifying his/her agreement for you to access his/her records.

Without this bulleted information the component(s) may not be able to conduct an effective search, and your request may be denied due to lack of specificity or lack of compliance with applicable regulations.

Record Access Procedures:

See “Notification procedure” above.

Contesting Record Procedures:

See “Notification procedure” above.

Record Source Categories:

Information used to compile records in this system is taken from all sources of incoming correspondence and response correspondence by DHS. A non-exclusive list of correspondence sources may include members of the general public, unions, trade organizations, non-profits, business or governmental entities, including the news media and congressional offices.

Exemptions Claimed for the System:

None.

Dated: October 28, 2008.
Hugo Teufel III,
Chief Privacy Officer, Department of Homeland Security.

[FR Doc. E8-26691 Filed 11-7-08; 8:45 am]

BILLING CODE 4410-10-P